DEPARTMENT OF TRANSPORTATION

Federal Highway Administration

Notice To Rescind Notice of Intent To Prepare an Environmental Impact Statement: Taylorsville Mobility Study, Salt Lake County, State of Utah

AGENCY: Federal Highway Administration (FHWA), DOT.

ACTION: Rescind Notice of Intent to prepare an Environmental Impact Statement (EIS) for the Taylorsville Mobility Study.

SUMMARY: The FHWA is issuing this notice to advise the public that the Notice of Intent (NOI), issued on March 2, 2010, to prepare an EIS is being rescinded for the proposed Taylorsville Mobility Study transportation project. The proposed EIS was to analyze and address the regional transportation connectivity needs on the west side of the Salt Lake Valley in the area bounded by 6200 South, 4700 South; Bangerter Highway and Redwood Road in Salt Lake County, State of Utah. For Further Information, contact: Edward T. Woolford, Environmental Program Manager, Federal Highway Administration, 2520 West 4700 South, Suite 9A, Salt Lake City, Utah 84129, by telephone (801) 955-3524.

SUPPLEMENTARY INFORMATION: This Notice of Intent to prepare an EIS for the area mentioned is being rescinded after an initial planning analysis, conducted by FHWA and the Utah Department of Transportation, concluded the analysis did not lead to the initiation of an EIS or a Federal agency action.

Authority: 23 U.S.C. 315; 49 CFR 1.48.

Issued on: November 7, 2017.
Edward Woolford,
Environmental Program Manager, Federal Highway Administration, Salt Lake City, Utah.

[FR Doc. 2017-24623 Filed 11-13-17; 8:45 am]

BILLING CODE 4910-RY-P